LEGAL SERVICES CORPORATION

Sunshine Act Meeting

DATE AND TIME: The Legal Services Corporation's Board of Directors and its six committees will meet October 4-6, 2015. On Sunday, October 4, the first meeting will commence at 1:00 p.m., Pacific Standard Time (PST), with the meeting thereafter commencing promptly upon adjournment of the immediately preceding meeting. On Monday, October 5, the first meeting will commence at 3:00 p.m., PST, with the next meeting commencing at 4:15 p.m., PST. On Tuesday, October 6, the first meeting will commence at 9:00 a.m., PST, it will be followed by the closed session meeting of the Board of Directors which will commence promptly upon adjournment of the prior meeting.

LOCATION: Hyatt Regency San Francisco, 5 Embarcadero Center, San Francisco, California 94111.

PUBLIC OBSERVATION: Unless otherwise noted herein, the Board and all committee meetings will be open to public observation. Members of the public who are unable to attend in person but wish to listen to the public proceedings may do so by following the telephone call-in directions provided below.

CALL-IN DIRECTIONS FOR OPEN SESSIONS: • Call toll-free number: 1-866-451-4981;

• When prompted, enter the following numeric pass code: 5907707348;

• When connected to the call, please immediately “MUTE” your telephone.

Members of the public are asked to keep their telephones muted to eliminate background noises. To avoid disrupting the meeting, please refrain from placing the call on hold if doing so will trigger recorded music or other sound. From time to time, the presiding Chair may solicit comments from the public.

Meeting Schedule

* Please note that all times in this notice are in Pacific Standard Time.

| Time *
Sunday, October 4, 2015:
1. Operations and Regulations Committee | 1:00 p.m.
2. Audit Committee.
3. Finance Committee.
4. Institutional Advancement Committee.
5. Institutional Advancement Committee Communication Subcommittee.
Monday, October 5, 2015:
1. Delivery of Legal Services Committee. | 3:00 p.m.
2. Governance & Performance Review Committee.
Tuesday, October 6, 2015:
1. Board of Directors | 9:00 a.m.

STATUS OF MEETING: Open, except as noted below.

Board of Directors—Open, except that, upon a vote of the Board of Directors, a portion of the meeting may be closed to the public to hear briefings by management and LSC's Inspector General, and to consider and act on the General Counsel's report on potential and pending litigation involving LSC, and on a list of prospective funders.**

** Any portion of the closed session consisting solely of briefings does not fall within the Sunshine Act's definition of the term “meeting” and, therefore, the requirements of the Sunshine Act do not apply to such portion of the closed session. 5 U.S.C. 552b(a)(2) and (b). See also 45 CFR 1622.2. & 1622.3.

Institutional Advancement Committee—Open, except that, upon a vote of the Board of Directors, the meeting may be closed to the public to consider and act on recommendation of new prospective donors and to receive a briefing on the development report.**

Audit Committee—Open, except that the meeting may be closed to the public to hear a briefing on the Office of Compliance and Enforcement's active enforcement matters.**

A verbatim written transcript will be made of the closed session of the Board, Institutional Advancement Committee, and Audit Committee meetings. The transcript of any portions of the closed sessions falling within the relevant provisions of the Government in the Sunshine Act, 5 U.S.C. 552b(c)(6) and (10), will not be available for public inspection. A copy of the General Counsel's Certification that, in his opinion, the closing is authorized by law will be available upon request.

MATTERS TO BE CONSIDERED:

October 4, 2015

Operations & Regulations Committee

1. Approval of agenda

2. Approval of minutes of the Committee's meeting of July 16, 2015

3. Update on Further Notice of Proposed Rulemaking for Transfers of LSC Funds and Subgrants and Membership Fees or Dues

• Ron Flagg, General Counsel

• Stefanie Davis, Assistant General Counsel

• Mark Freedman, Senior Associate General Counsel

4. Consider and act on Advanced Notice of Rulemaking for Cost Standards and the Property Acquisition and Management Manual

• Ron Flagg, General Counsel

• Stefanie Davis, Assistant General Counsel

5. Report on LSC Rulemaking Timeline

• Ron Flagg, General Counsel

• Stefanie Davis, Assistant General Counsel

• Mark Freedman, Senior Associate General Counsel

6. Report on Records Management Policy

• Ron Flagg, General Counsel

7. Other public comment

8. Consider and act on other business

9. Consider and act on adjournment of meeting

October 4, 2015

Audit Committee

1. Approval of agenda

2. Approval of minutes of the Committee's meeting on July 16, 2015

3. Review of the Audit Committee Charter responsibilities and development of work plan

4. Briefing by Office of Inspector General

• Jeffrey Schanz, Inspector General

5. Management update regarding risk management

• Ron Flagg, Vice President of Legal Affairs

6. Briefing about follow-up by Office of Compliance and Enforcement on referrals by the Office of Inspector General regarding audit reports and annual Independent Public audits of grantees

• Lora Rath, Director of Compliance and Enforcement

• John Seeba, Assistant Inspector General for Audits

7. Public comment

8. Consider and act on other business

Closed Session

9. Approval of minutes of the Committee's meeting on July 16, 2015

10. Briefing by Office of Compliance and Enforcement on active enforcement matter(s) and follow-up on open investigation referrals from the Office of Inspector General

• Lora Rath, Director of Compliance and Enforcement

11. Consider and act on adjournment of meeting

October 4, 2015

Finance Committee

1. Approval of agenda

2. Approval of minutes of the Committee's telephonic meeting on July 9, 2015

3. Approval of the minutes of the meeting of July 16, 2015

4. Approval of the minutes of the Committee's telephonic meeting on August 13, 2015

5. Presentation of the LSC's Financial Report for the ten-month period ending July 31, 2015

• David Richardson, Treasurer/Comptroller

6. Report on status of FY 2016 appropriations process

• Carol Bergman, Director of Government Relations & Public Affairs

7. Report on status of FY 2017 appropriations process

• Carol Bergman, Director of Government Relations & Public Affairs

8. Consider and act on Resolution 2015-XXX, Temporary Operating Authority for FY 2016

• David Richardson, Treasurer/Comptroller

9. Public comment

10. Consider and act on other business

11. Consider and act on adjournment of meeting

October 4, 2015

Institutional Advancement Committee

Open Session

1. Approval of agenda

2. Approval of minutes of the Committee's meeting of July 17, 2015

3. Update on development activities

4. Leaders Council update

5. Public comment

6. Consider and act on other business

7. Adjourn open session

Closed Session

1. Approval of minutes of the Committee's Closed Session meeting of July 17, 2015

2. Development report

3. Consider and act on prospective donors

4. Consider and act on adjournment of meeting

October 4, 2015

Communications Subcommittee of the Institutional Advancement Committee

Open Session

1. Approval of agenda

2. Approval of minutes of the Subcommittee's meeting of July 18, 2015

3. Discussion of communication efforts

4. Public comment

5. Consider and act on other business

October 5, 2015

Delivery of Legal Services Committee

1. Approval of agenda

2. Approval of minutes of the Committee's meeting on July 17, 2015

3. Review of LSC management proposal to include client-eligible representatives on Office of Program Performance oversight visits

4. Panel presentation and Committee discussion on fiscal oversight and internal controls

• Gregory Knoll, Executive Director, Legal Aid Society of San Diego Inc.

• John Seeba, Assistant Inspector General for Audit, Office of Inspector General, Legal Services Corporation

• Mohammed Sheikh, Director of Finance, Bay Area Legal Aid

• Lora Rath, Director, Office of Compliance and Enforcement, Legal Services Corporation (Moderator)

5. Public comment

6. Consider and act on other business

7. Consider and act on motion to adjourn the meeting

October 5, 2015

Governance and Performance Review Committee

1. Approval of agenda

2. Approval of minutes of the Committee's meeting on July 16, 2015

3. Review Committee Charter

• Carol Bergman, Director of Government Relations & Public Affairs

• Ron Flagg, General Counsel

4. Resources for Board Succession Plan

• Carol Bergman, Director of Government Relations & Public Affairs

• Ron Flagg, General Counsel

5. GAO Report on Federal Low-Income Programs

• Carol Bergman, Director of Government Relations & Public Affairs

6. Report on Board and Committee 2015 evaluations

• Carol Bergman, Director of Government Relations & Public Affairs

7. Report on foundation grants and LSC's research agenda

• Jim Sandman, President

8. Consider and act on other business

9. Public comment

10. Consider and act on adjournment of meeting

October 6, 2015

Board of Directors

Open Session

1. Pledge of Allegiance

2. Approval of agenda

3. Approval of minutes of the Board's Open Session meeting of July 18, 2015

4. Approval of minutes of the Board's Open Session telephonic meeting of August 13, 2015

5. Chairman's Report

6. Members' Report

7. President's Report

8. Inspector General's Report

9. Consider and act on the report of the Finance Committee

10. Consider and act on the report of the Audit Committee

11. Consider and act on the report of the Operations and Regulations Committee

12. Consider and act on the report of the Governance and Performance Review Committee

13. Consider and act on the report of the Institutional Advancement Committee

14. Consider and act on the report of the Delivery of Legal Services Committee

15. Consider and act on process for updating the 2012-2016 LSC Strategic Plan

16. Report on implementation of the Pro Bono Task Force Report and the Pro Bono Innovation Fund

17. Public comment

18. Consider and act on other business

19. Consider and act on whether to authorize an executive session of the Board to address items listed below, under Closed Session

Closed Session

20. Approval of minutes of the Board's Closed Session of July 18, 2015

21. Approval of minutes of the Governance & Performance Review Committee's Closed Session Meeting of July 16, 2015

22. Briefing by Management

23. Briefing by Inspector General

24. Consider and act on General Counsel's report on potential and pending litigation Involving LSC

25. Consider and act on list of prospective funders

26. Consider and act on motion to adjourn meeting

CONTACT PERSON FOR INFORMATION: Katherine Ward, Executive Assistant to the Vice President & General Counsel, at (202) 295-1500. Questions may be sent by electronic mail to FR_NOTICE_QUESTIONS@lsc.gov.

NON-CONFIDENTIAL MEETING MATERIALS: Non-confidential meeting materials will be made available in electronic format at least 24 hours in advance of the meeting on the LSC Web site, at http://www.lsc.gov/board-directors/meetings/board-meeting-notices/non-confidential-materials-be-considered-open-session.

ACCESSIBILITY: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: September 23, 2015.
Katherine Ward,
Executive Assistant to the Vice President for Legal Affairs, General Counsel & Corporate Secretary.

[FR Doc. 2015-24563 Filed 9-23-15; 4:30 pm]

BILLING CODE 7050-01-P